FEDERAL RETIREMENT THRIFT INVESTMENT

Board Member Meeting

Telephonic, August 27, 2019, 10 a.m.

Open Session

1. Approval of the July 22, 2019 Board Meeting Minutes

2. Monthly Reports

(a) Participant Activity Report

(b) Investment Performance

(c) Legislative Report

3. Quarterly Reports

(d) Metrics

4. Audit Update

5. 2019/2020 Board Meeting Calendar Review

6. Withdrawal Project Update

CONTACT PERSON FOR MORE INFORMATION: Kimberly Weaver, Director, Office of External Affairs (202) 942-1640.

Dated: August 19, 2019.
Megan Grumbine,
General Counsel, Federal Retirement Thrift Investment Board.

[FR Doc. 2019-18164 Filed 8-22-19; 8:45 am]

BILLING CODE 6760-01-P